SUNSHINE ACT NOTICE

Nuclear Regulatory Commission

Date: Weeks of September 16, 23, 30, October 7, 14, 21, 2002.

Place: Commissioners' Conference Room, 11555 Rockville Pike, Rockville, Maryland.

Status: Public and Closed.

Matters To Be Considered:

Week of September 16, 2002.

There are no meetings scheduled for the Week of September 16, 2002.

Week of September 23, 2002—Tentative

There are no meetings scheduled for the Week of September 23, 2002.

Week of September 30, 2002—Tentative

Tuesday, October 1, 2002

9:25 a.m. Affirmation Session (Public Meeting), (If needed)

9:30 a.m. Briefing on Decommissioning Activities and Status (Public Meeting) (Contract: John Buckley, 301-415-6607)

This meeting will be webcast live at the Web address— http://www.nrc.gov.

Wednesday, October 2, 2002

10 a.m. Briefing on Strategic Workforce Planning and Human Capital Initiatives (Closed—Ex. 2)

Week of October 7, 2002—Tentative

There are no meetings scheduled for the Week of October 7, 2002.

Week of October 14, 2002—Tentative

There are no meetings scheduled for the Week October 14, 2002.

Week of October 21, 2002—Tentative

There are no meetings scheduled for the Week of October 21, 2002.

The schedule for Commission meetings is subject to change on short notice. To verify the status of meetings call (recording)—(301) 415-1294. Contact person for more information: R. Michelle Schroll (301) 415-1662.

Additional Information

The Discussion of Management Issues (Closed—Ex. 2) previously scheduled on Thursday, October 3, 2002, at 9 a.m. has been rescheduled on Thursday, November 14, 2002 at 2 p.m.

The NRC Commission Meeting Schedule can be found on the Internet at: http://www.nrc.gov/what-we-do/policy-making/schedule.html.

This notice is distributed by mail to several hundred subscribers; if you no longer wish to receive it, or would like to be added to the distribution, please contact the Office of the Secretary; Washington, DC 20555 (301-415-1969). In addition, distribution of this meeting notice over the Internet system is available. If you are interested in receiving this Commission meeting schedule electronically, please send an electronic message to dkw@nrc.gov.

Dated: September 12, 2002.
R. Michelle Schroll,
Acting Technical Coordinator, Office of the Secretary.

[FR Doc. 02-23802 Filed 9-16-02; 12:00 pm]

BILLING CODE 7590-01-M